NATIONAL AERONAUTICS AND SPACE ADMINISTRATION

[Notice 15-020]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: April 1, 2015.

FOR FURTHER INFORMATION CONTACT: Bryan A. Geurts, Patent Counsel, Goddard Space Flight Center, Mail Code 140.1, Greenbelt, MD 20771-0001; telephone (301) 286-7351; fax (301) 286-9502.

NASA Case No.: GSC-17004-1: System, Apparatus, Composition and Method for Superhydrophobic and Dust Mitigating Coatings;

NASA Case No.: GSC-16900-1: Miniature Release Mechanism or Diminutive Assembly for Nanosatellite deploYables (DANY);

NASA Case No.: GSC-15733-1: Systems and Methods for Communication Link Analysis in Space Mission Planning;

NASA Case No.: GSC-16937-1: Phase Occulted Visible Nulling Coronagraph Apparatus and Method;

NASA Case No.: GSC-16664-1: High Precision Metal Thin Film Liftoff Technique;

NASA Case No.: GSC-16098-1: Computer Controlled Automated Safe to Mate for Both Flight Hardware and Ground Support Equipment;

NASA Case No.: GSC-16876-1: Systems and Methods for Precipitation Logging and Analysis;

NASA Case No.: GSC-16966-1: Cubesat Instrument for Occulation Measurements of Atmospheric Methane and Carbon Dioxide;

NASA Case No.: GSC-17118-1: Climate Data Services Application Programing Interface (CDS API) MERRA Analytic Services (MERRA/AS);

NASA Case No.: GSC-17115-1: Climate Data Services Application Programing Interface (CDS API) Persistence Services (PS);

NASA Case No: GSC-16495-1: Double Parity Single Error Correction (DPSEC) Code;

NASA Case No.: GSC-16148-1: Graphene Transparent Conductive Electrodes for Next Generation Microshutter Arrays;

NASA Case No.: GSC-17087-1: System and Method for Detecting Unauthorized Device Access by Comparing Multiple Independent Spatial-Time Date Sets from Other Devices;

NASA Case No.: GSC-15510-1: Superior Piezoresistive Sensor Designs for Rotation or Torque Sensing in Silicon MEMS Devices;

NASA Case No.: GSC-16589-1: Photonic Waveguide Choke Joint with Absorptive Loading;

NASA Case No.: GSC-16509-2: Digital Beamforming Interferometry;

NASA Case No.: GSC-16591-1: Large Format Gallium Arsenide Quantum Well Infrared Photodetectors;

NASA Case No.: GSC-16883-2: Meta-Material Blocking Filter with Low Geometric Inductance;

NASA Case No.: GSC-16730-1: A Simulation and Verification System and Method;

NASA Case No.: GSC-16149-1: Resonance-Actuation of Microshutter Arrays;

NASA Case No.: GSC-16594-1: MERRA Analytic Services (MERRA/AS) Concept, Design, Architecture, and Operation;

NASA Case No.: GSC-17117-1: Climate Data Services Application Programing Interface (CDS API) Reference Model, Library, and Command Interpreter;

NASA Case No.: GSC-16598-1: Range and Intensity Image-Based Terrain and Vehicle Relative Pose Estimation System;

NASA Case No.: GSC-17075-1: Improved White Molecular Adsorber Coating System;

NASA Case No.: GSC-16144-1: Controlling Charged Particles with Inhomogeneous Electrostatic Fields;

NASA Case No.: GSC-16794-1: Symmetric Absorber-Coupled Far-Infrared Microwave Kinetic Inductance Detector;

NASA Case No.: GSC-15978-1: Compact Adiabatic Demagnetization Refrigeration Stage with Integral Passive Gas-Gap Heat Switch;

NASA Case No.: GSC-16995-1: Photonic Waveguide Choke Joint with Non-Absorptive Loading;

NASA Case No.: GSC-17116-1: Climate Data Services Application Programing Interface (CDS API) Client Distribution Package.

Sumara M. Thompson-King,
General Counsel.

[FR Doc. 2015-07454 Filed 3-31-15; 8:45 am]

BILLING CODE 7510-13-P